DEPARTMENT OF AGRICULTURE

Food and Nutrition Service

Agency Information Collection Activities: Proposed Collection; Comments Request—Evaluation of the Food Insecurity Nutrition Incentive (FINI) Grant Program

AGENCY: Food and Nutrition Service (FNS), USDA.

ACTION: Notice.

SUMMARY: In accordance with the Paperwork Reduction Act of 1995, this notice invites the public and other public agencies to comment on this proposed information collection. This is a new collection for the purpose of measuring changes in fruit and vegetable purchases and consumption, food security, and perceived diet quality and health status among Supplemental Nutrition Assistance Program (SNAP) participants receiving incentives at the point of purchase.

DATES: Written comments must be received on or before November 9, 2015.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Comments may be sent to: Eric Sean Williams, Food and Nutrition Service, USDA, 3101 Park Center Drive, Room 1014, Alexandria, VA 22302. Comments may also be submitted via fax to the attention of Eric Sean Williams at 703-305-2576 or via email to eric.williams@fns.usda.gov. Comments will also be accepted through the Federal eRulemaking Portal. Go to http://www.regulations.gov and follow the online instructions for submitting comments electronically.

All written comments will be open for public inspection at the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collected should be directed to Eric Sean Williams, Office of Policy Support, Food and Nutrition Service, USDA, 3101 Park Center Drive, Room 1014, Alexandria, VA 22302.

SUPPLEMENTARY INFORMATION:

Title: Evaluation of the Food Insecurity Nutrition Incentive (FINI) Grant Program.

OMB Number: 0584-NEW.

Expiration Date of Approval: Not Yet Determined.

Abstract: The Agriculture Act of 2014 (Pub. L. 113-79) authorized USDA to provide Food Insecurity Nutrition Incentive (FINI) grants to eligible organizations to design and implement projects to increase purchases of fruits and vegetables among low-income consumers participating in SNAP by providing incentives at the point of purchase. The objective of this information collection is to measure changes in fruit and vegetable purchases and consumption, food security, and perceived diet quality and health status among SNAP participants who receive incentives through FINI grant projects awarded in FY 2015 and FY 2016. The evaluation will use a quasi-experimental study design with clustered intervention sites and non-equivalent comparison groups. Baseline and follow-up data will be collected from (i) SNAP participants in the intervention (incentive) and the non-incentive comparison groups, (ii) Program Staff (key informant) interviews, and (iii) grantees. The data collection activities to be undertaken subject to this notice include:

• Participant Survey: Two questions for the participant survey that have not been previously validated will be pretested with 9 SNAP participants. The pretest participants will not be included in the sample for the participant survey. SNAP participants in the intervention and comparison groups will be asked questions about their shopping patterns, knowledge and attitudes about fruits and vegetables, fruit and vegetable intakes, food security, household characteristics, and their experience with the incentive programs. Data collection procedures will be the same for the pre- and post-intervention surveys. At the onset of the voluntary study, a packet containing an advance invitation letter in English and Spanish, a $5 pre-survey incentive, pre-intervention survey, and postage paid return envelope will be mailed to participants. Both letters will include instructions to call a toll-free number; however, the Spanish letter will have an option for Spanish Speakers to complete their survey in Spanish. One week after the initial mailing, participants who have not returned the survey will receive an automated telephone call reminding them to complete and return the survey. Next, three weeks after the initial mailing, a FedEx package will be sent to non-responding participants, to underscore the importance of the study. The FedEx package will include a reminder letter with a toll-free number they can call to complete the survey by phone, a hard copy participant survey, and postage paid envelope. One week after the 2nd mailing, all non-responding participants will receive an automated telephone reminder call. About three weeks after the second mailing, telephone data collectors will attempt to contact sampled participants who have not returned the survey and try to complete the participant survey by phone. In the event that the trained interviewer is unable to speak with a person, interviewers will leave a message on voice mail along with a toll-free number for respondents to call and complete the survey at their convenience. A thank you letter with a $20 cash incentive will be mailed to participants completing the survey. Respondents who use their cellphone to complete the interview will receive an additional $10 (i.e., total of $30) to reimburse for the minutes used to complete the survey. The invitation letter for post-intervention survey and FedEx follow-up letter for the post-intervention survey will be sent only to pre-intervention survey respondents.

• Program Staff (Key Informants): State Agencies and Business Grantees will identify program administrators, retail and market operators and representatives from the partnering local community organization(s), to participate in two semi-structured telephone interviews regarding implementation of the incentive program. The interview procedures will be the same for the two interviews; trained project staff will use the interview guide and record the discussions. A thank you postcard will be mailed to all program staff. Since program staff are expected to cooperate with and contribute to the independent evaluation, they will be no monetary incentives for their participation in this study.

• State, Local or Tribal and Business-for-not-for-profit: Grantees will be emailed on a quarterly basis, with a request to complete the online minimum core data survey for all outlets that are involved in the incentive program. As indicated in the program staff section above, grantees are expected to cooperate with and contribute to the independent evaluation; therefore, grantees will not receive monetary incentives for their participation in the evaluation. However, they may receive a summary data report about their FINI grant project.

Affected Public: Respondent groups identified include: Individuals/Households (SNAP participants), State/Local or Tribal Government (Respondent Types: Grantees and program administrators), and Profit/Non-Profit Businesses (Respondent Types: Grantees, program administrators, retailers, and community organizations).

Estimated Number of Respondents: The total number of respondents is 10,266. This includes 9 SNAP participants that will pretest 2 survey questions and 10,152 SNAP participants (6,903 will complete the pre-intervention survey and 3,093 will complete the pre-intervention and post-intervention surveys) with an 80 percent response rate for eligible respondents). A total of 105 key informant interviews will be conducted annually (5 State/Local government grantees; 30 for profit/nonprofit grantees; and 70 retailer/local community staff). The minimum core data form will be completed by 35 grantees (5 State/Local government grantees and 30 for profit/nonprofit grantees), on a quarterly basis. Note that some grantees have multiple sites and they will coordinate data collection activities with their outlets. The average number of outlets is 302 for State/Local government grantee and 88 per profit/nonprofit grantee. We expect a 100 percent response rate for the grantees program staff/key informant interviews and for the completion and quarterly submission of the minimum core data.

Estimated Number of Responses per Respondent: SNAP participants and program staff/key informant interviews will respond two times; grantees will respond 16 times, on average (on a quarterly basis).

Estimated Time per Response: Pretesting 2 questions will take .25 hours. The pre-intervention and post-intervention surveys completed by mail will take 20 minutes (.334 hours) and those completed over the telephone will take 25 minutes. Program Staff/Key informant interviews will take 1 hour, and the minimum core data form will take about 20 minutes per outlet, per quarter.

Estimated Total Burden on Respondents: 17,584.2 hours. See the table below for estimated total burden for each type of respondent.

The burden is broken down by respondent type:

BILLING CODE 3410-34-P

Dated: September 4, 2015.
Yvette S. Jackson,
Acting Administrator, Food and Nutrition Service.

[FR Doc. 2015-22782 Filed 9-9-15; 8:45 am]

BILLING CODE 3410-34-C